DEPARTMENT OF COMMERCE

National Oceanic and Atmospheric Administration

RIN 0648-XA146

Caribbean Fishery Management Council; Scoping Meetings

AGENCY: National Marine Fisheries Service (NMFS), National Oceanic and Atmospheric Administration (NOAA), Commerce.

ACTION: Notice of Scoping Meetings.

SUMMARY: The Caribbean Fishery Management Council will hold scoping meetings to obtain input from fishers, the general public, and the local agencies representatives on the Options Paper for the Comprehensive Annual Catch Limit (ACL) Amendment for the U.S. Caribbean including Amendment 6 to the Reef Fish Fishery Management Plan of Puerto Rico and the U.S. Virgin Islands; Amendment 2 to the Fishery Management Plan for Corals and Reef Associated Plants and Invertebrates of Puerto Rico and the U.S. Virgin Islands; Amendment 5 to the Fishery Management Plan for the Spiny Lobster Fishery of Puerto Rico and the U.S. Virgin Islands; Amendment 3 to the Fishery Management Plan for the Queen Conch Fishery of Puerto Rico and the U.S. Virgin Islands

DATES AND ADDRESSES: The scoping meetings will be held on the following dates and locations:

For Puerto Rico,

February 7, 2011, DoubleTree by Hilton San Juan, De Diego Avenue, San Juan, Puerto Rico

February 9, 2011, Mayagüez Holiday Inn, 2701 Hostos Avenue, Mayagüez, Puerto Rico

February 10, 2011, Holiday Inn Ponce & Tropical Casino, 3315 Ponce By Pass, Ponce, Puerto Rico

For the U.S. Virgin Islands,

February 16, 2011, The Buccaneer Hotel, Estate Shoys, Christiansted, St. Croix, U.S. Virgin Islands.

February 17, 2011, Holiday Inn (Windward Passage Hotel) Charlotte Amalie, St. Thomas, U.S. Virgin Islands

All meetings will be held from 7 p.m. to 10 p.m.

FOR FURTHER INFORMATION CONTACT: Caribbean Fishery Management Council, 268 Muñoz Rivera Avenue, Suite 1108, San Juan, Puerto Rico 00918-1920, telephone (787) 766-5926.

SUPPLEMENTARY INFORMATION: The Caribbean Fishery Management Council will hold Scoping meetings to receive public input on the following management options. The complete Options Paper is available at: http://caribbeanfmc.com/pdfs/2011%20ACL%20Amendment%20Options%20Paper%20December%2022%202010.pdf:

Management Options

Action 1. Management Reference Points

Action 1a: Establish a year sequence for determining average annual landings that can be applied to each island group for both the commercial and recreational sectors.

Option 1: No action. Retain current management reference points or proxies for species/species groups within the reef fish, queen conch, lobster, and corals FMUs.

Option 2: Establish a year sequence for determining average annual landings for each species or species group within Puerto Rico.

Sub-option A: Establish a start year for the year sequence.

Sub-sub-option i: Use 1983 as the start date for determining average annual landings for each species or species group within Puerto Rico.

Sub-sub-option ii: Use 1998 as the start date for determining average annual landings for each species or species group within Puerto Rico.

Sub-sub-option iii: Use 1999 as the start date for determining average annual landings for each species or species group within Puerto Rico.

Sub-sub-option iv: Use 2000 as the start date for determining average annual landings for each species or species group within Puerto Rico.

Sub-sub-option v: Use 2003 as the start date for determining average annual landings for each species or species group within Puerto Rico.

Sub-sub-option vi: Use 2004 as the start date for determining average annual landings for each species or species group within Puerto Rico.

Sub-option B: Establish an end year for the year sequence.

Sub-sub-option i: Use 2005 as the end date for determining average annual landings for each species or species group within Puerto Rico.

Sub-sub-option ii: Use 2007 as the end date for determining average annual landings for each species or species group within Puerto Rico.

Sub-sub-option iii: Use 2008 as the end date for determining average annual landings for each species or species group within Puerto Rico.

Option 3: Establish a year sequence for determining average annual landings for each species or species group within St. Thomas and St. John.

Sub-option A: Establish a start year for the year sequence.

Sub-sub-option i: Use 2000 as the start date for determining average annual landings for each species or species group within St. Thomas and St. John.

Sub-sub-option ii: Use 2003 as the start date for determining average annual landings for each species or species group within St. Thomas and St. John.

Sub-option B: Establish an end year for the year sequence.

Sub-sub-option i: Use 2005 as the end date for determining average annual landings for each species or species group within St. Thomas and St. John.

Sub-sub-option ii: Use 2007 as the end date for determining average annual landings for each species or species group within St. Thomas and St. John.

Option 4: Establish a year sequence for determining average annual landings for each species or species group within St. Croix.

Sub-option A: Establish a start year for the year sequence.

Sub-sub-option i: Use 1998 as the start date for determining average annual landings for each species or species group within St. Croix.

Sub-sub-option ii: Use 1999 as the start date for determining average annual landings for each species or species group within St. Croix.

Sub-sub-option iii: Use 2000 as the start date for determining average annual landings for each species or species group within St. Croix.

Sub-sub-option iv: Use 2003 as the start date for determining average annual landings for each species or species group within St. Croix.

Sub-option B: Establish an end year for the year sequence.

Sub-sub-option i: Use 2005 as the end date for determining average annual landings for each species or species group within St. Croix.

Sub-sub-option ii: Use 2007 as the end date for determining average annual landings for each species or species group within St. Croix.

Action 1b. Establish MSY proxy.

The MSA requires that FMPs specify a number of reference points for managed fish stocks, including:

• Maximum Sustainable Yield (MSY)—The greatest amount or yield that can be sustainably harvested under prevailing environmental conditions.

• Overfishing Threshold—The maximum rate of fishing a stock can withstand (MFMT) or maximum yield a stock can produce (OFL), annually, while still providing MSY on a continuing basis.

• Overfished Threshold (MSST)—The biomass level below which a stock would not be capable of producing MSY.

• Annual Catch Limit (ACL)—The annual level to which catch is limited in order to prevent overfishing from occurring.

• Optimum Yield (OY)—The amount or yield that provides the greatest overall benefit to the Nation, taking into account food production, recreational opportunities and the protection of marine ecosystems.

Together, these parameters are intended to provide the means to measure the status and performance of fisheries relative to established goals. Available data in the U.S. Caribbean are not sufficient to support direct estimation of MSY and other key parameters. In such cases, the National Standard 1 (NS1) guidelines direct regional fishery management councils to adopt other measures of productive capacity, including long-term average catch, which can serve as reasonable proxies.

Option 1: No action. Retain current management reference points or proxies for species/species groups.

Discussion: This alternative would retain the present MSY proxy, OY, and overfishing threshold definitions specified in the Comprehensive SFA Amendment for species/species groups. These definitions are detailed in Table 6.

The current MSY proxy is based on average catch (C) and on estimates of where stock biomass and fishing mortality rates are in relation to MSY levels during the period over which catches are averaged. The overfishing threshold (MFMT) is defined as a rate of fishing which exceeds that which would produce MSY. And OY is defined as the amount of fish produced by fishing at a rate equal to 75% of that which would produce MSY. The numerical values associated with these parameters are provided in Table 6.

Table 6—Current MSY Proxy, OY and Overfishing Threshold Definitions for Species/Species Groups
Reference point | Status quo definition
Maximum Sustainable Yield | MSY proxy = C/[(FCURR/FMSY) × (BCURR/BMSY)]; where C is calculated based on commercial landings for the years 1997-2001 for Puerto Rico and 1994-2002 for the USVI, and on recreational landings for the years 2000-2001.
Overfishing Threshold | MFMT = FMSY.
Optimum Yield | OY = average yield associated with fishing on a continuing basis at FOY; where FOY = 0.75FMSY.

The Comprehensive SFA Amendment in which these reference points were established pre-dated the MSRA provisions requiring FMPs to specify ACLs; consequently, the Comprehensive SFA Amendment did not explicitly specify this parameter for managed species/species groups. However, the ABC estimates derived from the Council's MSY control rule could be considered to represent the ACLs if no additional action were taken to revise management reference points in this amendment.

Option 2: Redefine management reference points or proxies based on the time series of catch data that is considered to be consistently reliable across all islands as defined in Action 1a.

Discussion: Option 2 would define aggregate management reference points or proxies based on what the Council considers to be the longest time series of catch data that is consistently reliable across all islands. Specific definitions are detailed in Table 7.

The MSY proxy specified by Option 2 would equate to average catch, calculated using commercial landings data and recreational landings data defined in Action 1a. Commercial data would be derived from trip ticket reports collected by the state governments. Recreational data would be derived from the MRFSS.

The overfishing threshold (OFL) would be defined as the amount of catch corresponding to the MSY proxy, and overfishing would be determined to occur if annual catches exceeded the overfishing threshold (Option 2(a)) or if annual catches exceeded the overfishing threshold and scientists (in consultation with managers) attributed the overage to increased catches versus improved data collection and monitoring (Option 2(b)).

Table 7—Management Reference Points or Proxies Proposed Under Alternative 2
Reference point | Option 2
Maximum Sustainable Yield | MSY proxy = average annual commercial catch selected by Council in Action 1a.
Overfishing Threshold:
Option 2(a) | OFL = MSY proxy; overfishing occurs when annual catches exceed the OFL.
Option 2(b) | OFL = MSY proxy; overfishing occurs when annual catches exceed the OFL, unless NMFS' Southeast Fisheries Science Center (in consultation with the Caribbean Fishery Management Council and its Scientific and Statistical Committee) determines the overage occurred because data collection/monitoring improved, rather than because catches actually increased.
Optimum Yield/Annual Catch Limit:
Option 2(c) | OY = ACL = OFL.
Option 2(d) | OY = ACL = OFL × (0.85).
Option 2(e) | OY = ACL = OFL × (0.75).
Option 2(f) | OY = ACL = OFL × (0.50).
Option 2(g) | OY = ACL = ABC specified by Scientific and Statistical Committee.
Option 2(h) | OY = ACL = 0.

The OY and ACL would be equal values, and the same socioeconomic and ecological tradeoffs would be considered in the determination of where to set both of these parameters. Most of the alternative ACL definitions considered here are more restrictive than the current OY definition and would prevent the fishery from achieving OY as currently defined. ACL (= OY) Options 2(c) through 2(f) would set those parameters equal to some proportion (100-50%) of the OFL to take into account uncertainty, ecological factors, and other concerns. Option 2(g) would set the ACL (= OY) equal to the ABC recommended by the Council's Scientific and Statistical Committee. Option 2(h) would set the ACL (= OY) equal to zero for surgeonfish.

Maximum Sustainable Yield (MSY)

The MSY proxy defined by no action Option 1 averages catches over the longest time period during which data were considered to be relatively stable at the time the Council approved the Comprehensive SFA Amendment. Because the Council had fewer years of catch data to work with at that time, that proxy incorporated Puerto Rico and USVI catch data prior to 1999. The MSY proxies evaluated in Option 2 does not use pre-1999 data in average catch calculations because those data were collected by gear type rather than by family group. The Council instead prefers to use data from more recent years, when the data were collected by family group and therefore provide a relatively consistent baseline among all of the islands.

Additionally, in contrast to the no action Option 1, Option 2 does not attempt to incorporate information on recreational catches in the USVI because the MRFSS does not provide this information and no alternative data are available to reliably estimate these landings. As a result, the MSYs specified by these alternative proxies are expected to be underestimated to some unknown degree. In general, underestimating MSY can result in foregone yield, whereas overestimating MSY can lead to overfishing.

Overfishing Threshold (MFMT/OFL)

The overfishing threshold defined by Option 1 is a maximum fishing mortality threshold (MFMT) equal to the fishing mortality rate at MSY. Because this fishing mortality rate is unknown for U.S. Caribbean species, the Comprehensive SFA Amendment adopted natural mortality rate as a proxy for this parameter. However, data are insufficient to evaluate the sustainability of current fishing mortality rates relative to this proxy and make a determination as to whether overfishing is or is not occurring. To remedy this, Option 2 proposes to specify a catch-based, rather than fishing mortality-based, overfishing threshold, called the overfishing limit (OFL). Annual catches would be evaluated relative to the OFL to determine whether overfishing is or is not occurring. This approach is consistent with the NS1 guidelines, which provide fishery managers the flexibility to determine if overfishing occurs based on either fishing mortality rates or actual annual catch.

Option 2 would essentially maintain the same relationship as the no action alternative between the overfishing threshold and MSY. MSY represents the maximum yield a species complex can provide in the long term, while OFL estimates the amount of annual catch above which overfishing is occurring. In theory, the annual OFL would vary above and below the MSY level depending on fluctuations in stock size. Since both MSY and OFL are related to the highest fishing mortality rate that will not result in overfishing, the long-term average of OFLs would be expected to equate to MSY, provided that stock abundance is high enough to support MSY. But, in practice, the annual OFL proposed in Option 2 would remain constant at the MSY level until stock biomass can be estimated.

Sub-option (a) would result in an automatic overfishing determination if annual catch exceeded the OFL in any given year, whereas Option (b) would provide scientists (in consultation with managers) the flexibility to evaluate the cause of the reported catch increase prior to making a determination that a species complex is undergoing overfishing. Specifically, they would consider whether the reported increase represents an actual increase in landings or just improved data collection and monitoring. The intent of this sub-option is to eliminate any incentive for fishermen to under-report or misreport catches to avoid exceeding ACLs and triggering associated AMs.

Optimum Yield (OY) and Annual Catch Limits (ACLs)

The current OY defined by no action Option 1 is derived from the technical guidance provided by Restrepo et al. (1998), which recommends the target fishing mortality rate be set equal to the average yield available on a continuing basis from fishing at 75% of the fishing mortality rate that would produce MSY. The authors of that guidance indicate that fishing at this level adds precaution and maintains stocks at higher biomass levels, while sacrificing only a small amount (~ 6.25%) of catch. Because data are insufficient to estimate the fishing mortality rate that would produce MSY, the Comprehensive SFA Amendment estimated the OY of each species/species group to equal 93.75% of MSY.

While the no action Option 1 does not explicitly define ACLs for the target species, the ABC estimates specified by the Council's MSY control rule could be considered to represent the ACLs of these species/species groups if no additional action were taken through this amendment to revise management reference points. However, these ABC values are very uncertain as they were calculated using natural mortality rate as a proxy for the fishing mortality rate that would produce MSY and informed judgment regarding stock biomass. And, because these values were set well below MSY values to address SFA Working Group determinations regarding overfishing, they would prevent the fishery from achieving OY; even though recent landings data indicate that, in most cases, management controls appear to have effectively reduced catch rates below the overfishing threshold.

To remedy this, Option 2 would set the OY and ACL as equal values, requiring the Council to consider the socioeconomic and ecological components of OY when determining how far ACLs should be reduced below the overfishing threshold to account for scientific uncertainty in estimating the OFL and management uncertainty in effectively constraining harvest over time. This approach leads to OY estimates for the target species that are below those estimated in the Comprehensive SFA Amendment, regardless of the OY (= ACL) alternative selected. In contrast, most of the OY alternatives would result in larger OY estimates for the grouper and parrotfish complexes relative to the no action alternative.

Action 1c. Allocation of ACLs among island groups.

Option 1: No Action. Maintain U.S. Caribbean-wide reference points.

BILLING CODE 3510-22-P

BILLING CODE 3510-22-C

Action 2: Management of Aquarium Trade Species

Option 1: No action. Do not re-evaluate and revise management of aquarium trade species.

Option 2: Consolidate all aquarium trade species listed in the Fishery Management Plan for Corals and Reef Associated Plants and Invertebrates of Puerto Rico and the U.S. Virgin Islands and Reef Fish Fishery Management Plan of Puerto Rico and the U.S. Virgin Islands into a single Fishery Management Plan.

Sub-option A: Move all aquarium trade species listed in the Fishery Management Plan for Corals and Reef Associated Plants and Invertebrates of Puerto Rico and the U.S. Virgin Islands into the Reef Fish Fishery Management Plan of Puerto Rico and the U.S. Virgin Islands.

Sub-option B: Move all of the aquarium trade species listed in the Reef Fish Fishery Management Plan of Puerto Rico and the U.S. Virgin Islands into the Fishery Management Plan for Corals and Reef Associated Plants and Invertebrates of Puerto Rico and the U.S. Virgin Islands.

Sub-option C: Move all of the aquarium trade species listed in both the Fishery Management Plan for Corals and Reef Associated Plants and Invertebrates of Puerto Rico and the U.S. Virgin Islands, and in the Reef Fish Fishery Management Plan of Puerto Rico and the U.S. Virgin Islands, into a separate Fishery Management Plan specific to aquarium trade species.

Option 3: Remove aquarium trade species from both the Fishery Management Plan for Corals and Reef Associated Plants and Invertebrates of Puerto Rico and the U.S. Virgin Islands and the Reef Fish Fishery Management Plan of Puerto Rico and the U.S. Virgin Islands.

Sub-option A: Remove all aquarium trade species from the Fishery Management Plan for Corals and Reef Associated Plants and Invertebrates of Puerto Rico and the U.S. Virgin Islands and from the Reef Fish Fishery Management Plan of Puerto Rico and the U.S. Virgin Islands and no longer track their landings.

Sub-option B: Move all aquarium trade species listed in the Fishery Management Plan for Corals and Reef Associated Plants and Invertebrates of Puerto Rico and the U.S. Virgin Islands and the Reef Fish Fishery Management Plan of Puerto Rico and the U.S. Virgin Islands into the `data collection only' category.

Sub-option C: Move only those aquarium trade species listed in either the Fishery Management Plan for Corals and Reef Associated Plants and Invertebrates of Puerto Rico and the U.S. Virgin Islands or the Reef Fish Fishery Management Plan of Puerto Rico and the U.S. Virgin Islands, and for which landings data are available during the year sequence chosen in Action 1 above, into the `data collection only' category. Remove all remaining aquarium trade species from either the Fishery Management Plan for Corals and Reef Associated Plants and Invertebrates of Puerto Rico and the U.S. Virgin Islands or the Reef Fish Fishery Management Plan of Puerto Rico and the U.S. Virgin Islands and no longer track their landings.

Option 4: Transfer management authority, for all aquarium trade species listed in either the Fishery Management Plan for Corals and Reef Associated Plants and Invertebrates of Puerto Rico and the U.S. Virgin Islands or the Reef Fish Fishery Management Plan of Puerto Rico and the U.S. Virgin Islands, to the jurisdiction of the appropriate commonwealth or territory as defined by Action 3(c) of Amendment 2 to the Fishery Management Plan for the Queen Conch Fishery of Puerto Rico and the U.S. Virgin Islands and Amendment 5 to the Reef Fish Fishery Management Plan of Puerto Rico and the U.S. Virgin Islands.

Table 8. List of all species included in the Aquarium Trade category in both the Reef Fish and Coral FMPs. Table contents are extracted from Table 8 of the Comprehensive Amendment to the Fishery Management Plans (FMPs) of the U.S. Caribbean to Address Required Provisions of the Magnuson-Stevens Fishery Conservation and Management Act (a.k.a. the Comprehensive Sustainable Fisheries Act Amendment).

Reef Fish FMP

Clepticus parrae, Creole wrasse

Halichoeres garnoti, Yellowhead wrasse

Halichoeres cyanocephalus, Yellowcheek wrasse

Halichoeres maculipinna, Clown wrasse

Thalassoma bifasciatum, Bluehead wrasse

Liopropoma rubre, Swissguard basslet

Gramma loreto, Royal gramma

Microspathodon chrysurus, Yellowtail damselfish

Stegastes adustus, Dusky damselfish

Stegastes partitus, Bicolor damselfish

Stegastes planifrons, Threespot damselfish

Stegastes leucostictus, Beaugregory

Chaetodon capistratus, Foureye butterflyfish

Chaetodon aculeatus, Longsnout butterflyfish

Chaetodon ocellatus, Spotfin butterflyfish

Chaetodon striatus, Banded butterflyfish

Serranus baldwini, Lantern bass

Serranus annularis, Orangeback bass

Serranus tabacarius, Tobaccofish

Serranus tigrinus, Harlequin bass

Serranus tortugarum, Chalk bass

Opistognathus aurifrons, Yellowhead jawfish

Opistognathus whitehursti, Dusky jawfish

Xyrichtys novacula, Pearly razorfish

Xyrichtys splendens, Green razorfish

Echidna catenata, Chain moray

Gymnothorax funebris, Green moray

Gymnothorax miliaris, Goldentail moray

Elacatinus oceanops, Neon goby

Priolepis hipoliti, Rusty goby

Equetus lanceolatus, Jackknife-fish

Equetus punctatus, Spotted drum

Chromis cyanea, Blue chromis

Chromis insolata, Sunshinefish

Abudefduf saxatilis, Sergeant major

Astrapogon stellatus, Conchfish

Apogon maculatua, Flamefish

Amblycirrhitus pinos, Redspotted hawkfish

Antennarius spp., Frogfish

Bothus lunatus, Peacock flounder

Chaetodipterus faber, Atlantic spadefish

Canthigaster rostrata, Sharpnose puffer

Centropyge argi, Cherubfish

Diodon hystrix, Porcupinefish

Dactylopterus volitans, Flying gurnard

Heteropriacanthus cruentatus, Glasseye snapper

Hypoplectrus unicolor, Butter hamlet

Holocanthus tricolor, Rock beauty

Myrichthys ocellatus, Goldspotted eel

Ophioblennius macclurei, Redlip blenny

Pareques acuminatus, High-hat

Rypticus saponaceus, Greater sopafish

Synodus intermedius, Sand diver

Symphurus diomedianus, Caribbean tonguefish

Family Syngnathidae, Pipefishes and Seahorses

Family Ogcocephalidae, Batfish

Family Scorpaenidae, Scorpionfish

Table 8 (continued). List of all species included in the Aquarium Trade category in both the Reef Fish and Coral FMPs. Table contents are extracted from Table 8 of the Comprehensive Amendment to the Fishery Management Plans (FMPs) of the U.S. Caribbean to Address Required Provisions of the Magnuson-Stevens Fishery Conservation and Management Act (a.k.a. the Comprehensive Sustainable Fisheries Act Amendment).

Coral FMP

Aphimedon compressa, Erect rope sponge

Astrophyton muricatum, Giant basket star

Alpheaus armatus, Snapping shrimp

Aiptasia tagetes, Pale anemone

Astropecten spp., Sand stars

Analcidometra armata, Swimming crinoid

Bartholomea annulata, Corkscrew anemone

Cynachirella alloclada, sponge (no common name)

Condylactis gigantea, Giant pink-tipped anemone

Cyphoma gibbosum, Flamingo tongue

Chondrilla nucula, Chicken liver sponge

Diadema antillarum, Long-spined urchin

Davidaster spp., Crinoids

Discosoma spp., False coral

Echinometra spp., Purple urchin

Eucidaris tribuloides, Pencil urchin

Gonodactylus (Neogonodactylus) spp., Smashing mantis shrimp

Geodia neptuni, Potato sponge

Haliclona sp., Finger sponge

Holothuria spp., Sea cucumbers

Hereractis lucida, Knobby anemone

Lima spp., Fileclams

Lima scabra, Rough fileclam

Lytechinus spp., Pin cushion urchin

Lysmata spp., Peppermint shrimp

Linckia guildingii, Common comet star

Lysiosquilla spp., Spearing mantis shrimp

Lebrunia spp., Staghorn anemone

Mithrax spp., Clinging crabs

Mithrax cinctimanus, Banded clinging crab

Mithrax sculptus, Green clinging crab

Myriastra sp., sponge (no common name)

Niphates digitalis, Pink vase sponge

Niphates erecta, Lavender rope sponge

Nemaster spp., Crinoids

Ophiocoma spp., Brittlestars

Ophioderma spp., Brittlestars

Ophioderma rubicundum, Ruby brittlestar

Oreaster reticulatus, Cushion sea star

Ophidiaster guildingii, Comet star

Oliva reticularis, Netted olive

Octopus spp. (except the Common octopus, O. vulgaris)

Paguristes spp., Hermit crabs

Paguristes cadenati, Red reef hermit crab

Percnon gibbesi, Nimble spray crab

Periclimenes spp., Cleaner shrimp

Ricordia florida, Florida false coral

Stichodactyla helianthus, Sun anemone

Spirobranchus giganteus, Christmas tree worm

Sabellastarte magnifica, Magnificent duster

Sabellastarte spp., Tube worms

Stenopus scutellatus, Golden shrimp

Stenopus hispidus, Banded shrimp

Stenorhynchus seticornis, Yellowline arrow crab

Spondylus americanus, Atlantic thorny oyster

Spinosella plicifera, Iridescent tube sponge

Spinosella vaginalis, Lavendar tube sponge

Tripneustes ventricosus, Sea egg urchin

Thor amboinensis, Anemone shrimp

Tectitethya (Tethya) crypta, sponge (no common name)

Subphylum Urochordata, Tunicates

Tridachia crispata, Lettuce sea slug

Zoanthus spp., Sea mat

Action 3. Recreational fishery management.

Action 3a. Separation of recreational and commercial sectors.

Option 1: No action. Do not specify sector-specific annual catch limits.

Option 2: Specify separate commercial and recreational annual catch limits based on the preferred management reference point time series.

Action 3b. Recreational Bag Limits

Option 1: No action. Do not establish bag limit restrictions on recreational harvest.

Option 2: Specify a 5-fish aggregate bag limit per person (would not apply to a fisherman who has a valid commercial fishing license issued by Puerto Rico or the USVI).

Option 3: Specify a 2-fish aggregate bag limit per person (would not apply to a fisherman who has a valid commercial fishing license issued by Puerto Rico or the USVI).

Option 4: Establish a 0-fish aggregate bag limit per person (would not apply to a fisherman who has a valid commercial fishing license issued by Puerto Rico or the USVI) for species in the surgeonfish FMU.

Option 5: Establish an aggregate bag limit of: 10 per fisher including not more than two surgeonfish per fisher or six surgeonfish per boat, and 30 aggregate fish per boat on a fishing day (would not apply to a fisherman who has a valid commercial fishing license issued by Puerto Rico or the USVI).

Option 6: Establish an aggregate bag limit of: Five per fisher including not more than two surgeonfish per fisher or six surgeonfish per boat, and 15 aggregate fish per boat on a fishing day (would not apply to a fisherman who has a valid commercial fishing license issued by Puerto Rico or the USVI).

Action 4: Accountability Measures.

Action 4a: Triggering Accountability Measures.

Option 1: No Action. Do not trigger AMs.

Option 2: Trigger AMs if the Annual Catch Limit is exceeded based upon:

Sub-option A: A single year of landings beginning with landings from 2011.

Sub-option B: A single year of landings beginning with landings from 2011, then a 2-year running average of landings in 2012 (average of 2011+2012) and thereafter (i.e., 2011, 2011-2012, 2012-2013, etc.).

Sub-option C: A single year of landings beginning with landings from 2011, a 2-year average of landings in 2012 (average of 2011+2012), then a 3-year running average of landings in 2013 (average of 2011+2012+2013) and thereafter (i.e., 2011, 2011-2012, 2011-2013, 2012-2014, etc.).

Option 3: Trigger AMs if the annual catch limit is exceeded as defined below and NMFS' SEFSC (in consultation with the Caribbean Fishery Management Council and its Scientific and Statistical Committee) determines the overage occurred because catches increased versus data collection/monitoring improved:

Sub-option A: A single year of landings effective beginning 2011.

Sub-option B: A single year of landings effective beginning 2011, then a 2-year running average of landings effective 2012 and thereafter (i.e., 2011, 2011-2012, 2012-2013, etc.).

Sub-option C: A single year of landings effective beginning 2011, a 2-year running average of landings effective 2012, then a 3-year running average of landings effective 2013 and thereafter (i.e., 2011, 2011-2012, 2011-2013, 2012-2014, etc.).

Action 4b: Apply Accountability Measures.

Option 1: No Action. Do not apply AMs.

Option 2: If AMs are triggered, then reduce the length of the fishing season for that species or species group the year following the trigger determination by the amount needed to prevent such an overage from occurring again. The needed changes will remain in effect until modified.

Option 3: If AMs are triggered, then reduce the length of the fishing season for that species or species group the year following the trigger determination by the amount needed to prevent such an overage from occurring again and to pay back the overage. The needed changes will remain in effect until modified.

Action 5: Framework Measures.

Action 5a: Establish Framework Measures for the Spiny Lobster FMP.

Option 1: No Action. Do not amend the framework measures for the Spiny Lobster FMP.

Option 2: Amend the framework procedures for the Spiny Lobster FMP to provide a mechanism to expeditiously adjust the following reference points and management measures through framework action:

a. Quota Requirements

b. Seasonal Closures

c. Area Closures

d. Fishing Year

e. Trip/Bag Limit

f. Size Limits

g. Gear Restrictions or Prohibitions

h. Total Allowable Catch (TAC)

i. Annual Catch Limits (ACLs)

j. Accountability Measures (AMs)

k. Annual Catch Targets (ACTs)

l. Maximum Sustainable Yield (MSY)

m. Optimum Yield (OY)

n. Minimum Stock Size Threshold (MSST)

o. Maximum Fishing Mortality Threshold (MFMT)

p. Overfishing Limit (OFL)

q. Acceptable Biological Catch (ABC) control rules

r. Actions to Minimize the Interaction of Fishing Gear with Endangered Species or Marine Mammals

Option 3: Amend the framework procedures for the Spiny Lobster FMP to provide the Council with a mechanism to expeditiously adjust a subset of management measures outlined in Option 2.

Action 5b: Establish Framework Measures for the Corals and Reef Associated Plants and Invertebrates FMP.

Option 1: No Action. Do not amend the framework measures for the Corals and Reef Associated Plants and Invertebrates FMP.

Option 2: Amend the framework procedures for the Corals and Reef Associated Plants and Invertebrates FMP to provide a mechanism to expeditiously adjust the following reference points and management measures through framework action:

a. Quota Requirements

b. Seasonal Closures

c. Area Closures

d. Fishing Year

e. Trip/Bag Limit

f. Size Limits

g. Gear Restrictions or Prohibitions

h. Fishery Management Units (FMUs)

i. Total Allowable Catch (TAC)

j. Annual Catch Limits (ACLs)

k. Accountability Measures (AMs)

l. Annual Catch Targets (ACTs)

m. Maximum Sustainable Yield (MSY)

n. Optimum Yield (OY)

o. Minimum Stock Size Threshold (MSST)

p. Maximum Fishing Mortality Threshold (MFMT)

q. Overfishing Limit (OFL)

r. Acceptable Biological Catch (ABC) control rules

s. Actions to Minimize the Interaction of Fishing Gear with Endangered Species or Marine Mammals

Option 3: Amend the framework procedures for the Corals and Reef Associated Plants and Invertebrates FMP to provide the Council with a mechanism to expeditiously adjust a subset of management measures outlined in Option 2.

Special Accommodations

These meetings are physically accessible to people with disabilities. For more information or request for sign language interpretation and other auxiliary aids, please contact Mr. Miguel A. Rolón, Executive Director, Caribbean Fishery Management Council, 268 Muñoz Rivera Avenue, Suite 1108, San Juan, Puerto Rico, 00918-1920, telephone (787) 766-5926, at least five days prior to the meeting date.

Dated: January 11, 2011.
Tracey L. Thompson,
Acting Director, Office of Sustainable Fisheries, National Marine Fisheries Service.

[FR Doc. 2011-712 Filed 1-13-11; 8:45 am]

BILLING CODE 3510-22-P